DEPARTMENT OF COMMERCE

National Oceanic and Atmospheric Administration

[RTID 0648-XA100]

South Atlantic Fishery Management Council; Public Hearings

AGENCY: National Marine Fisheries Service (NMFS), National Oceanic and Atmospheric Administration (NOAA), Commerce.

ACTION: Notice of public hearings.

SUMMARY: The South Atlantic Fishery Management Council (Council) will hold public hearings via webinar pertaining to Regulatory Amendment 34 to the Snapper Grouper Fishery Management Plan for the South Atlantic Region. The amendment would designate artificial reefs in the federal waters off the coasts of North Carolina and South Carolina as Special Management Zones (SMZs) and implement fishing gear restrictions within the SMZs.

DATES: The public hearings will be held via webinar on May 4 and 5, 2020.

ADDRESSES: Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The public hearings will be conducted via webinar beginning at 6 p.m. Registration for the webinars is required. Registration information will be posted on the Council's website at https://safmc.net/safmc-meetings/public-hearings-scoping-meetings/ as it becomes available.

Regulatory Amendment 34 to the Snapper Grouper Fishery Management Plan

The draft regulatory amendment contains proposed actions to: Designate 30 artificial reefs in federal waters off North Carolina as Special Management Zones. Within the SMZs, harvest of snapper grouper species would be allowed with handline, rod and reel, and spear. All harvest by spear would be limited to the applicable recreational bag limit.

Designate four additional artificial reefs in federal waters off South Carolina as SMZs. Within the SMZs, harvest of snapper grouper species would only be allowed with handline, rod and reel, and spear (without powerheads) and all harvest would be limited to the applicable recreational bag limit.

During the public hearings, Council staff will present an overview of the draft amendment and will be available for informal discussions and to answer questions via webinar. A public comment form will also be available online. The comment form, a copy of the Regulatory Amendment 34 Public Hearing Document, and additional information will be posted on the Council's website as it becomes available at: https://safmc.net/safmc-meetings/public-hearings-scoping-meetings/.

Special Accommodations

These hearings are physically accessible to people with disabilities. Requests for auxiliary aids should be directed to the Council office (see ADDRESSES) 3 days prior to the public hearings.

Note: The times and sequence specified in this agenda are subject to change.

Authority: 16 U.S.C. 1801 et seq.

Dated: April 13, 2020.
Tracey L. Thompson,
Acting Deputy Director, Office of Sustainable Fisheries, National Marine Fisheries Service.

[FR Doc. 2020-08047 Filed 4-15-20; 8:45 am]

BILLING CODE 3510-22-P